NUCLEAR REGULATORY COMMISSION

[Docket No. 52-016]

Constellation Generation Group, LLC, and Unistar Nuclear Operating Services, LLC; Acceptance for Docketing of an Application for Combined License for Calvert Cliffs Nuclear Power Plant Unit 3

By four letters dated March 14, 2008, as supplemented by a letter dated May 15, 2008, Constellation Generation Group, LLC, and UniStar Nuclear Operating Services, LLC (CGG and UniStar) submitted Part 2 of their application to the U.S. Nuclear Regulatory Commission (NRC) for a combined license (COL) for one U.S. EPR pressurized water reactor in accordance with the requirements contained in 10 CFR Part 52 “Licenses, Certifications and Approvals for Nuclear Power Plants.” This reactor is identified as Calvert Cliffs Nuclear Power Plant, Unit 3 and is to be located in Lusby in Calvert County, Maryland.

CGG and UniStar previously submitted Part 1 of this application by letters dated July 13 and December 14, 2007, as supplemented by letters dated July 16, August 2, September 11, and October 30, 2007, and January 14 and March 3, 2008, in accordance with the requirements contained in 10 CFR Parts 2 and 52. The partial application included the environmental report (ER) as well as additional information that must accompany the first part of any COL application as required by 10 CFR 2.101(a)(5). Part 1 was accepted for review and docketed by the NRC on January 25, 2008 (ML080160547), and with the docketing of Part 2, the application is complete.

Notices of receipt and availability of this application were previously published in the Federal Register (72 FR 45832) on August 15, 2007, and (73 FR 24321) on May 2, 2008.

The NRC staff has determined that CGG and UniStar have submitted information in accordance with 10 CFR Part 2, “Rules of Practice for Domestic Licensing Proceedings and Issuance of Orders,” and 10 CFR Part 52 that is acceptable for docketing. The Docket Number established for Unit 3 is 5200016.

The NRC staff will perform a detailed technical review of the application. Docketing of the application does not preclude the NRC from requesting additional information from the applicant as the review proceeds, nor does it predict whether the Commission will grant or deny the application. The Commission will conduct a hearing in accordance with Subpart L, “Informal Hearing Procedures for NRC Adjudications,” of 10 CFR Part 2 and will receive a report on the COL application from the Advisory Committee on Reactor Safeguards in accordance with 10 CFR 52.87, “Referral to the Advisory Committee on Reactor Safeguards (ACRS).” If the Commission finds that the COL application meets the applicable standards of the Atomic Energy Act and the Commission's regulations, and that required notifications to other agencies and bodies have been made, the Commission will issue a COL, in the form and containing conditions and limitations that the Commission finds appropriate and necessary.

In accordance with 10 CFR Part 51, the Commission will also prepare an environmental impact statement for the proposed action. Pursuant to 10 CFR 51.26, and as part of the environmental scoping process, the staff held a public scoping meeting on March 19, 2008.

Finally, the Commission will announce in a future Federal Register notice the opportunity to petition for leave to intervene in the proceeding on this application.

For reference purposes, information regarding the U.S. EPR design referenced by this COL application can be found on the NRC Web site at http://www.nrc.gov/reactors/new-licensing/design-cert/epr.html.

Documents may be examined, and/or copied for a fee, at the NRC's Public Document Room (PDR), located at One White Flint North, Public File Area O1 F21, 11555 Rockville Pike (first floor), Rockville, Maryland, and will be accessible electronically through the Agencywide Documents Access and Management System (ADAMS) Public Electronic Reading Room link at the NRC Web site http://www.nrc.gov/reading-rm/adams.html. The application is also available at http://www.nrc.gov/reactors/new-licensing/col.html. Persons who do not have access to ADAMS or who encounter problems in accessing documents located in ADAMS should contact the NRC PDR Reference staff by telephone at 1-800-397-4209, 301-415-4737, or by e-mail to pdr@nrc.gov.

Dated at Rockville, Maryland this 3rd day of June 2008.
For the Nuclear Regulatory Commission.
John Rycyna,
Project Manager, EPR Projects Branch, Division of New Reactor Licensing, Office of New Reactors.

[FR Doc. E8-12844 Filed 6-6-08; 8:45 am]

BILLING CODE 7590-01-P